DEPARTMENT OF HOMELAND SECURITY

Coast Guard

33 CFR Part 165

[Docket No. USCG-2009-0288]

Safety Zone; Chicago Harbor, Navy Pier East, Chicago, IL

AGENCY: Coast Guard, DHS.

ACTION: Notice of enforcement of regulation.

SUMMARY: The Coast Guard will enforce the Navy Pier East Safety Zone in Chicago Harbor from 9 p.m. until 9:40 p.m. on May 22, 2009. This action is necessary to protect vessels and people from the hazards associated with fireworks displays. All vessels must obtain permission from the Captain of the Port or his on-scene representative to enter, move within or exit the safety zone.

DATES: The regulations in § 165.933 will be enforced from 9 p.m. on May 22, 2009 to 9:40 p.m. on May 22, 2009.

FOR FURTHER INFORMATION CONTACT: If you have questions on this notice, call or e-mail LCDR Kimber Bannan, Prevention Department, Coast Guard Sector Lake Michigan, Milwaukee, WI at (414) 747-7154, e-mail Kimber.L.Bannon@uscg.mil.

SUPPLEMENTARY INFORMATION: The Coast Guard will enforce the Safety Zone, Navy Pier East, Chicago Harbor, Chicago, IL, found in 33 CFR 165.933 (published on June 13, 2007 at 72 FR 32525) on May 22, 2009 from 9 p.m. through 9:40 p.m., for the Municipal Clerks of Illinois Fireworks.

The general regulations in 33 CFR 165.23 apply. All persons and vessels must comply with the instructions of the Coast Guard Captain of the Port or a designated representative. All vessels must obtain permission from the Captain of the Port or his designated representative to enter, move within or exit the safety zone. Vessels and persons granted permission to enter the safety zone shall obey all lawful orders or directions of the Captain of the Port or a designated representative. While within a safety zone, all vessels shall operate at the minimum speed necessary to maintain a safe course. Upon being hailed by the U.S. Coast Guard by siren, radio, flashing light or other means, the operator of a vessel shall proceed as directed.

This notice is issued under authority of 33 CFR 165.933 Safety Zone, Navy Pier East, Chicago Harbor, Chicago, IL, and 5 U.S.C. 552(a). In addition to this notice in the Federal Register, the Coast Guard will provide the maritime community with advance notification of these enforcement periods via broadcast Notice to Mariners and Local Notice to Mariners.

The Captain of the Port will issue a Broadcast Notice to Mariners notifying the public when enforcement of the safety zone established by this section is suspended. The Captain of the Port may be contacted via U.S. Coast Guard Sector Lake Michigan on channel 16, VHF-FM.

Dated: April 23, 2009.
Bruce C. Jones,
Captain, U.S. Coast Guard, Captain of the Port Lake Michigan.

[FR Doc. E9-10756 Filed 5-7-09; 8:45 am]

BILLING CODE 4910-15-P